DEPARTMENT OF TRANSPORTATION

Federal Aviation Administration

Notice of Intent To Rule on Request To Release Property at the Arnold Palmer Regional Airport, Latrobe, PA

AGENCY: Federal Aviation Administration (FAA) DOT.

ACTION: Notice of request to release airport property.

SUMMARY: The FAA proposes to rule and invite public comment on the land release at the Arnold Palmer Regional Airport, Latrobe, PA under the provision 49 U.S.C. 47125(a).

DATES: Comments must be received on or before August 14, 2015.

ADDRESSES: Comments on this application may be mailed or delivered to the following address:

Gabe Monzo, Manager, Arnold Palmer Regional Airport, 148 Aviation Lane, Suite 103, Latrobe, PA, 724-539-8100

and at the FAA Harrisburg Airports District Office:

Lori K. Pagnanelli, Manager, Harrisburg Airports District Office, 3905 Hartzdale Dr., Suite 508, Camp Hill, PA 17011, (717) 730-2830.

FOR FURTHER INFORMATION CONTACT: Charles Sacavage, Project Manager, Harrisburg Airports District Office, location listed above.

The request to release airport property may be reviewed in person at this same location.

SUPPLEMENTARY INFORMATION: The FAA invites public comment on the request to release property at the Arnold Palmer Regional Airport under the provisions of Section 47125(a) of Title 49 U.S.C. On July 7, 2015, the FAA determined that the request to release property at the Arnold Palmer Regional Airport (LBE), PA, submitted by the Westmoreland County Airport Authority, met the procedural requirements.

The following is a brief overview of the request:

The Airport Authority requests the release of a total of 4.271 acres of required Right-of-Way for the SR 981 widening project and 0.785 acres for a Temporary Construction Easement. The purpose of the project is to address geometric deficiencies of the roadway, reduce the number of crashes at the SR 0981/SR 2027 intersection, and reduce route confusion utilizing current smart transportation criteria. The project is being coordinated by the Pennsylvania Department of Transportation. There are seventeen parcels included in the proposed 4.271 acre land release, which are sliver takes, that were originally purchased using local funds and/or utilizing Airport Improvement Program (AIP) funding. Three of the parcels (0.610 acres) were purchased using local funds for non-aviation use. The existing property use (remaining 3.661 acres) consists of dedicated airport property. As shown on the Airport Layout Plan, the property is not needed now or in the future for airport development. Proceeds from sale of the property that was purchased with federal funds will be utilized toward future Airport Improvement Program (AIP) eligible capital improvement projects at LBE.

Any person may inspect the request by appointment at the FAA office address listed above.

Interested persons are invited to comment on the proposed lease. All comments will be considered by the FAA to the extent practicable.

Issued in Camp Hill, Pennsylvania, July 7, 2015.
Lori K. Pagnanelli,
Manager, Harrisburg Airports District Office.

[FR Doc. 2015-17381 Filed 7-14-15; 8:45 am]

BILLING CODE 4910-13-P